DEPARTMENT OF DEFENSE

Department of the Air Force

[Docket ID: USAF-2011-0021]

Privacy Act of 1974; System of Records

AGENCY: Department of the Air Force, DoD.

ACTION: Notice to Add a System of Records.

SUMMARY: The Department of the Air Force proposes to add a system of records to its inventory of record systems subject to the Privacy Act of 1974 (5 U.S.C. 552a), as amended.

DATES: The proposed action will be effective on September 26, 2011 unless comments are received that would result in a contrary determination.

ADDRESSES: You may submit comments, identified by docket number and title, by any of the following methods:

* Federal Rulemaking Portal: http://www.regulations.gov.

Follow the instructions for submitting comments.

* Mail: Federal Docket Management System Office, 4800 Mark Center Drive, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information Officer, ATTN: SAF/XCPPI, 1800 Air Force Pentagon, Washington, DC 20330-1800, or by phone at 703-696-6488.

SUPPLEMENTARY INFORMATION: The Department of the Air Force systems of records notices subject to the Privacy Act of 1974 (U.S.C. 552a), as amended, have been published in the Federal Register and are available from the address in FOR FURTHER INFORMATION CONTACT.

The proposed system report, as required by 5 U.S.C. 552a(r) of the Privacy Act of 1974, as amended, was submitted on August 22, 2011, to the House Committee on Oversight and Government Reform, the Senate Committee on Homeland Security and Governmental Affairs, and the Office of Management and Budget (OMB) pursuant to paragraph 4c of Appendix I to OMB Circular No. A-130, `Federal Agency Responsibilities for Maintaining Records About Individuals', dated February 8, 1996 (February 20, 1996, 61 FR 6427).

Dated: August 22, 2011.
Aaron Siegel,
Alternate OSD Federal Register Liaison Officer, Department of Defense.

F084 AFHRA A

System Name:

Air Force Historical Research Agency Records.

System Location:

Air Force Historical Research Agency, 600 Chennault Circle, Maxwell AFB, AL 36112-6424.

Categories of individuals covered by the system:

Any person who applies to use the services offered by the Air Force Historical Research Agency.

Categories of records in the system:

Name, signatures, personal contact information, individual's employer and institutional, organizational, or service affiliation; the nature of the individual's visit (official or unofficial); information concerning an applicant's security clearance; and a listing of research materials the individual requested. A notification of the requested and type of identification the visitor presented will be maintained.

Authority for maintenance of the system:

10 U.S.C. Subtitle D, Air Force; Air Force Instruction 84-101, Historical Products, Services, and Requirements; Air Force Instruction 84-105, Organizational Lineage, Honors and Heraldry; and Air Force Mission Directive 30, Air Force Historical Research Agency.

Purposes:

The purpose of this system of records is to collect, validate eligibility, and maintain an official registry file that identifies individuals who apply for, and are granted, access to the Air Force Historical Research Agency (AFHRA) services; maintain control of Agency records and establish researcher accountability; enable future contact with researchers; register students in courses conducted by the AFHRA; and to facilitate the preparation of statistical and other aggregate reports on researcher use of the Agency records.

Routine uses of records maintained in the system, including categories of users and the purposes of such uses:

The DoD ‘Blanket Routine Uses' published at the beginning of the Air Force's compilation of systems of records notices apply to this system.

Policies and practices for storing, retrieving, accessing, retaining, and disposing of records in the system:

Storage:

Paper records and electronic storage media.

Retrievability:

By individual's name.

Safeguards:

Paper and electronic records are maintained within secured buildings in areas accessible only to persons having official need to know, and who are properly trained and screened. In addition, the electronic system is controlled with passwords, and Common Access Card (CAC) governing access to data.

Retention and disposal:

Delete information in the database when no longer needed. Electronic records are destroyed by erasing, deleting, or overwriting. When paper records are no longer needed, they are destroyed by shredding, rendering it impossible to recover meaningful information from the resulting residue.

System manager(s) and address:

Air Force Historical Research Agency Records Manager, 600 Chennault Circle, Maxwell AFB, Alabama 36112-6424.

Notification procedure:

Individuals seeking to determine whether information about themselves is contained in this system should address written inquiries to Air Force Historical Research Agency Records Manager, 600 Chennault Circle, Maxwell AFB, Alabama 36112-6424.

For verification purposes, individual should provide their full name, any details which may assist in locating records, and their signature. In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Record access procedures:

Individuals seeking access to information about themselves contained in this system should address written inquiries to Air Force Historical Research Agency Records Manager, 600 Chennault Circle, Maxwell AFB, Alabama 36112-6424.

For verification purposes, individual should provide their full name, any details which may assist in locating records, and their signature. In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.

Contesting record procedures:

The Air Force's rules for accessing records, and for contesting contents and appealing initial agency determinations are contained in Secretary of the Air Force Instruction 33-332; 32 CFR part 806; or may be obtained from the system manager. Denial to amend records in this system can be made only by the Director, Air Force History and Museums Policies and Programs.

Record source categories:

From information provided by applicants.

Exemptions claimed for the system:

None.

[FR Doc. 2011-21845 Filed 8-25-11; 8:45 am]

BILLING CODE 5001-06-P